DEPARTMENT OF HOMELAND SECURITY

U.S. Customs and Border Protection

DEPARTMENT OF THE TREASURY

19 CFR Part 12

[CBP Dec. 20-16]

RIN 1515-AE58

Import Restrictions Imposed on Archaeological Material From Chile

AGENCY: U.S. Customs and Border Protection, Department of Homeland Security; Department of the Treasury.

ACTION: Final rule.

SUMMARY: This final rule amends the U.S. Customs and Border Protection (CBP) regulations to reflect the imposition of import restrictions on certain archaeological material from the Republic of Chile (Chile). These restrictions are being imposed pursuant to an agreement between the United States and Chile that has been entered into under the authority of the Convention on Cultural Property Implementation Act. The final rule amends the CBP regulations by adding Chile to the list of countries which have a bilateral agreement with the United States that imposes cultural property import restrictions. The final rule also contains the Designated List that describes the types of archaeological material to which the restrictions apply.

DATES: Effective on October 7, 2020.

FOR FURTHER INFORMATION CONTACT: For legal aspects, Lisa L. Burley, Chief, Cargo Security, Carriers and Restricted Merchandise Branch, Regulations and Rulings, Office of Trade, (202) 325-0300, ot-otrrculturalproperty@cbp.dhs.gov. For operational aspects, Genevieve S. Dozier, Management and Program Analyst, Commercial Targeting and Analysis Center, Trade Policy and Programs, Office of Trade, (202) 945-2942, CTAC@cbp.dhs.gov.

SUPPLEMENTARY INFORMATION:

Background

The Convention on Cultural Property Implementation Act, Public Law 97-446, 19 U.S.C. 2601 et seq. (hereinafter, “the Cultural Property Implementation Act”) implements the 1970 United Nations Educational, Scientific and Cultural Organization (UNESCO) Convention on the Means of Prohibiting and Preventing the Illicit Import, Export and Transfer of Ownership of Cultural Property (hereinafter, “the Convention” (823 U.N.T.S. 231 (1972)). Pursuant to the Cultural Property Implementation Act, the United States entered into a bilateral agreement with Chile to impose import restrictions on certain Chilean archaeological material. This rule announces that the United States is now imposing import restrictions on certain archaeological material from Chile.

Determinations

Under 19 U.S.C. 2602(a)(1), the United States must make certain determinations before entering into an agreement to impose import restrictions under 19 U.S.C. 2602(a)(2). On June 12, 2019, the Assistant Secretary for Educational and Cultural Affairs, United States Department of State, after consultation with and recommendation by the Cultural Property Advisory Committee, made the determinations required under the statute with respect to certain archaeological material originating in Chile that is described in the Designated List set forth below in this document.

These determinations include the following: (1) That the cultural patrimony of Chile is in jeopardy from the pillage of archaeological material representing Chile's cultural heritage dating from approximately 31,000 B.C. to 250 years before the signing of the Agreement; (2) that the Chilean government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material described in the determinations meets the statutory definition of “archaeological or ethnological material of the State Party” (19 U.S.C. 2601(2)).

The Agreement

On May 7, 2020, the United States and Chile signed a bilateral agreement, “Memorandum of Understanding between the Government of the United States of America and the Government of Chile Concerning the Imposition of Import Restrictions on Categories of Archaeological Material of Chile” (“the Agreement”), pursuant to the provisions of 19 U.S.C. 2602(a)(2). The Agreement enters into force on September 30, 2020, and enables the promulgation of import restrictions on categories of archaeological material representing Chile's cultural heritage ranging in date from the Paleoindian period (approximately 31,000-8000 B.C.) to the Huri Moai phase in Chile (A.D. 1680-1868). A list of the categories of archaeological material subject to the import restrictions is set forth later in this document.

Restrictions and Amendment to the Regulations

In accordance with the Agreement, importation of material designated below is subject to the restrictions of 19 U.S.C. 2606 and § 12.104g(a) of title 19 of the Code of Federal Regulations (19 CFR 12.104g(a)) and will be restricted from entry into the United States unless the conditions set forth in 19 U.S.C. 2606 and § 12.104c of the CBP Regulations (19 CFR 12.104c) are met. CBP is amending § 12.104g(a) of the CBP Regulations (19 CFR 12.104g(a)) to indicate that these import restrictions have been imposed.

Import restrictions listed at 19 CFR 12.104g(a) are effective for no more than five years beginning on the date on which the Agreement enters into force with respect to the United States. This period may be extended for additional periods of not more than five years if it is determined that the factors which justified the Agreement still pertain and no cause for suspension of the Agreement exists. The import restrictions will expire on September 30, 2025, unless extended.

Designated List of Archaeological Material of Chile

The Agreement between the United States and Chile includes, but is not limited to, the categories of objects described in the Designated List set forth below. Importation of material on this list is restricted unless the material is accompanied by documentation certifying that the material left Chile legally and not in violation of the export laws of Chile.

The Designated List includes archaeological material in stone, metal, ceramic, and organic tissue ranging in date from approximately 31,000 B.C. to 1868 A.D.

Archaeological Material

Approximate chronology of well-known archaeological sites, traditions, and cultures: Archaeological material covered by the Agreement is associated with the diverse cultural groups that resided in Chile's five cultural zones on the mainland: the Arid North, the Semi-arid North, Central Chile, Southern Chile, and the Far South; and on Rapa Nui (formerly Easter Island) in Polynesia.

The Arid North, the Semi-Arid North, Central Chile, and Southern Chile

Prehistoric archaeological material from the Arid North, the Semi-arid North, Central Chile, and Southern Chile dates from the earliest human presence, currently dated to approximately 31,000 B.C., to the end of the Arauco war in A.D. 1772.

(a) Paleoindian period: Groups of terminal Pleistocene terrestrial hunter-gatherers: Monteverde and Pilauco (c. 31,000-8000 B.C.); Santa Julia (10,000 B.C.); Quebrada de Mani-12 (11,000-9000 B.C.); Tagua Tagua 1 and 2 (13,500-10,800 B.C.); and Austral hunters (before 10,000 B.C.).

(b) Early Archaic period: Groups of land and sea Holocene hunter-gatherers: San Pedro Viejo de Pichasca Tradition (8000 B.C.); Alero Marifilo 1 (10,000-2000 B.C.); Huentelauquén Complex (11,500-8000 B.C.); Piuquenes Cavern (10,076-9373 B.C.); Alero El Manzano (10,140-8564 B.C.).

(c) Middle Archaic period: Chinchorro (8500-2000 B.C.); Talcahuense coastal hunter-gatherers (4500-2000 B.C.); Papudo and Morrillos Complex (7000-3000 B.C.); Cuchipuy site (7291-6643 B.C.); El Manzano 3, La Batea 1 and Tagua Tagua 2 sites (7000-3000 B.C.).

(d) Late Archaic period: Caleta Huelén-42 (4780-3780 B.C.); Caramucho-3 (4030 B.C.); Alero Punta Colorada (3,000-1 B.C.); and Guanaqueros Complex (3000 B.C.).

(e) Early Pottery period: Alto Ramírez and Faldas del Morro Phases (500 B.C.-A.D 200); El Molle Culture (300 B.C.-A.D. 800); Caleta Huelén-7, 10, 20 and 43 (450 B.C.-A.D. 820); Guatacondo-1 (900 B.C.-A.D. 200); Ramaditas (900 B.C.-A.D. 200); Pitrén Complex (A.D. 350-1000); Llolleo Complex (A.D. 200-1200); and Bato Groups (A.D. 200-1200).

(f) Middle Pottery period: Tiwanaku-influenced cultures (A.D. 600-1000); Caserones-1 (350 B.C.-A.D. 900); and San Pedro de Atacama Culture (500 B.C.-A.D. 1470).

(g) Late Intermediate Pottery period: Arica Culture (A.D. 1000-1450); Pica-Tarapacá Complex (A.D. 900-1450); Camiña (A.D. 1200-1400); Diaguita Culture (A.D. 1200-1536); and Aconcagua Cultural Complex (A.D. 900-1470).

(h) Late Pottery period: Inka-influenced cultures (A.D. 1200-1450); El Vergel Complex (A.D. 1000-1550); and Valdivia Ceramics (A.D. 1400-1800).

The Far South

Archaeological material in the Far South is associated with hunter-gatherers living in the region from the beginning of the Holocene through the 19th century A.D.

(a) Early Holocene: Hunter-gatherers sites of El Chueco 1, Baño Nuevo 1, Fell, and Pali Aike sites (10,000-8000 B.C.).

(b) Middle Holocene: Hunter-gatherers from the Fell III cultural tradition (8000-5000 B.C.); early Austral canoe nomads Englefield tradition (6500-5000 B.C.); Northern canoe nomads (6000-5000 B.C.).

(c) Late Holocene: Austral hunter-gatherers and canoe nomads (5,000 B.C.-A.D. 19th century).

Rapa Nui

Archaeological material from Rapa Nui dates from the earliest settlers around A.D. 400 to 1868.

(a) Ahu Moroki phase: Rapa Nui Culture (A.D. 400-1100).

(b) Ahu Moai phase: Rapa Nui Culture (A.D. 1100-1680).

(c) Huri Moai phase: Rapa Nui Culture (A.D. 1680-1868).

Categories of Archaeological Material

I. Stone

II. Ceramic

III. Metal

IV. Human remains

V. Textiles

VI. Wood

VII. Bone, shell and other organic matter

I. Stone

Stone tools marked the arrival of the first people to each region of Chile and continued to be used throughout history. Examples of archaeological stone material covered in the Agreement include the following objects.

A. Chipped stone tools—Projectile points and tools for scraping, cutting, or perforating are made primarily from quartz crystal, quartz, basalt, silicate, and obsidian. Stone tools from the Arid North may be attached to wooden handles. A mata'a is a multifunctional Rapa Nui obsidian biface with a stem about 10 cm long.

B. Hoes, axes, and shovels—Rough and unpolished medium-sized hoes, axes, and shovels first appeared in the Early Pottery period and continued to be used throughout the Arid North, the Semi-arid North, Central Chile, and Southern Chile. In Rapa Nui, basalt or obsidian chisels (toki) are carved or polished bifaces in rectangular, trapezoidal, cylindrical, or irregular shapes with a pointed end. Dimensions range from 5 cm to 25 cm.

C. Bolas (boleadoras)—Round, oval, or pear-shaped stone balls have an equatorial groove where a string was tied.

D. Pestles and mortars—A pestle is a hand-held stone used with a bottom mortar stone to grind grains. Late Archaic period conical hollowed pestles were used with flat grinding stones. Llolleo Culture long and rounded pestles were used with concave mortars with a defined grinding channel. Female figure Pre-Mapuche stone mortars have a cavity in the abdomen.

E. Cup-marked stones—Large granite stones with one to dozens of carved cylindrical or oval cavities about 20 cm deep are associated with several cultures including the Papudo and Morrillos Complex.

F. Perforated stones and spindle whorls (torteras)—Perforated stones are cylindrical, spherical, or ovoid stones perforated through the center. Spindle whorls are smaller stones of similar shape used to spin yarn. Diaguita culture polished stone spindle whorls are shaped like double axes.

G. Stone pipes—Carved and polished stone pipes are for consuming hallucinogenic drugs. El Molle, Llolleo, and Pitrén culture pipes are T-shaped with small cylindrical bowls and two lateral tubular extensions, one with a closed end and one with an open end. Bowls sometimes have mamiform decorations. Mapuche culture pipes and their predecessors (kitras) have cylindrical bodies with a small bowl in the center and short stem or are anthropomorphic with the bowl in the torso and stem at the foot. Pipes may also have zoomorphic shapes.

H. Fishing tools—Weights for fishing lines, hooks, harpoon heads, and shellfish hooks from northern and central coastal archaeological sites are made from stone. Austral canoe nomad fishing line weights are made from coarse-grained pebbles with notches or grooves. Rapa Nui hooks are 3-10 cm long and made from black basalt, sometimes mixed with bone. They are elongated and curved with a semi-flat section and a pointed edge; the shaft is longer than the stem.

I. Geometric stones—Early Archaic period geometric stones associated with Huentalauquén and San Pedro Viejo de Pichasca Complexes are igneous stone or granite carved and polished into circles, triangles, rectangles, and polygons. The stones are sometimes covered with red, orange, gray, or black pigment. Rapa Nui geometric stones are manufactured mainly from basalt.

J. Toqui mano—Llolleo and Mapuche style toqui manos are cylindrical polished stone objects with a flat and beveled distal end, similar in shape to an axe head. Some have vertical incisions along the edge of the blade.

K. Beads—Necklaces and bracelets are often made of stone beads. Beads from the Arid and Semi-arid North are made from malachite, white quartz, silicate, and obsidian beginning in the Early Pottery period. Llolleo culture discoidal basalt beads (0.3 to 0.7 cm in diameter) are often mixed with malachite and greenish apatite tubular beads (about 0.5 cm long and 0.4 cm in diameter).

L. Labrets (tembetás)—Tembetás are stone ornaments worn in a perforation of the lower lip. They may be discoidal with wings, cylindrical with wings, or conical with wings. Some are fusiform in shape, including straight or curved bottle-shapes. Diaguita culture tembetás are button-shaped with small wings. Tembetás are also associated with the LLolleo culture and Bato groups.

M. Moai—Moai are Rapa Nui anthropomorphic figures carved in basalt, lapilli tuff, trachyte, or red scoria. Dimensions range from 30 cm to several meters in height. Some have high or low relief petroglyphs or incisions on the back and front of the figure.

N. Rock art—Rock art includes petroglyphs (engravings) and pictographs (paintings) that may have been removed from large boulders or outcrops. Rock art from the Arid North and Semi-arid North depicts humans, camelids, felines, snakes, lizards, spiders, sea mammals, fish, turtles, other animal figures, and geometric motifs. Cave art in the Far South includes geometric figures, handprints, and camelids painted in red, black, and ochre pigments.

O. Other polished stone objects—Late Pottery period cultures, including those with Inka influence, made anthropomorphic and zoomorphic figures (llamas, condors, snakes, etc.). Diaguita and Aconcagua style stone panpipes (antaras) are musical instruments consisting of multiple tubes. Mapuche and pre-Mapuche pendants from Central Chile are shaped like axe heads with a drilled hole to suspend the ornament. Mapuche scepters (clavas) are polished stone objects with a handle and head in the shape of a bird.

II. Ceramic

The earliest-known pottery in Chile dates to about 3,000 years ago. Potters in the Arid North, Semi-arid North, Central Chile, and Southern Chile created vessels, body ornaments, pipes, and other utilitarian and ceremonial items. Cultures in the Far South and Rapa Nui did not manufacture ceramics. Examples of archaeological ceramics covered in the Agreement include the following objects.

Ceramics of the Arid North

A. Early undecorated pottery—includes Faldas de Morro style large jars with restricted necks (on average 26 cm tall and 18 cm in diameter); small, shallow undecorated bowls about 4 cm tall; and large, deep undecorated bowls about 10 cm tall. Alto Ramirez style globular jars are undecorated.

B. San Pedro de Atacama style—polished black, dark brown, or red pottery may be decorated with modeled faces or geometric patterns of incised lines. Forms include bowls about 10 cm tall; anthropomorphic bottles about 18 cm tall; and tall, narrow jars with straight walls and flat bases about 12 cm tall.

C. Tiwanaku-influenced pottery—includes Cabuza-style lightly polished red ware decorated with black, or sometimes white, painted bands of lines, triangles, and wavy lines. Forms include jars with one handle, bowls, and keros (beakers). Imported fine polychrome Tiwanaku ceramics include jars, bowls, and keros with geometric, zoomorphic, or anthropomorphic painted or modeled decorations.

D. Maytas-Chiribaya style pottery—includes bowls, jars with one handle, and cántaros (very large jars with small necks) decorated with elaborate geometric designs in white, black, and red paint on red slip, often arranged into bands.

E. Arica culture ceramics—include San Miguel style large globular jars with narrow necks, keros, and smaller jars with one handle with white slip and black and red painted geometric figures, zigzag lines, and spirals. Pocoma-Gentilar style polished unslipped jars, cántaros, and cups have black, white, and red painted geometric figures, crosses, anthropomorphic designs, and zoomorphic designs on orange or white surfaces.

F. Inka-influenced ceramics—include locally produced Inka style jars that are monochrome polished red or orange or have painted black and red geometric designs. Imported Saxamar or Inka Pacajes pottery includes polished red ware plates and shallow bowls with fine lines, dots, or small llamas painted on the interior. Imported Inka polychrome pottery includes plates and jars with black, red, white, and cream painted geometric decorations.

Ceramics of the Semi-Arid North

G. Early pottery—includes El Molle style ceramics such as polished red, brown, and black cups, bottles, and jars with modeled decorations on the handles including animals and cultivated plants. Some cups are shaped like anthropomorphic kneeling figures. Some vessels are decorated with finely incised zones created by parallel lines, steps, and zigzags or with white, red and black paint. Some vessels have a metallic appearance created by applying pulverized hematite to the surface. Other Early ceramics include rough or polished red, black, or gray undecorated vessels. Styles include Loa, Quillagua, and Caleta Huelén.

H. Pica-Tarapacá Complex ceramics—include upright bottles, sometimes in anthropomorphic or zoomorphic shapes; bottles shaped like reclining anthropomorphic or zoomorphic figures; and asymmetrical or boot-shaped jars. Pottery is smoothed or polished red or black.

I. Late Intermediate Pottery period—Altiplano black-on-red ceramics are decorated with black paint over red slip creating lines, wavy lines, and steps on the outside of jars and bottles and inside of bowls. Styles include Isluga Black-on-Red and Chilpe Black-on-Red.

J. Diaguita style pottery—includes bowls with straight walls and round bases, often with modeled faces; bell-shaped bowls; anthropomorphic jars; boot-shaped jars with excised decoration; boot-shaped anthropomorphic or zoomorphic jars; and duck-shaped vessels. Red, white, and black painted designs on the exterior of finely burnished vessels include bell-shapes, rhombuses, crosses, felines, dots, and crosshatching, often organized into four equal segments.

K. Diaguita pottery with Inka influence—mixes Diaguita and Inka forms and designs. For example, Diaguita style straight-walled bowls are decorated on the interior with Inka motifs; Inka style bird-shaped plates have Diaguita decoration, sometimes divided into four sections; Inka style aríbalos have white slip and Diaguita decoration; and duck-shaped vessels painted with Inka designs. Some pottery closely imitates Cusco forms and designs, including flat or bird-shaped plates and aríbalos decorated with checkered patterns, hourglasses, double crosses, zoomorphic designs, and abstract plant motifs. Imported Inka polychrome pottery includes plates and jars with black, red, white, and cream painted geometric decorations.

Ceramics of Central Chile

L. Early pottery—includes smoothed or polished black or dark brown Bato and Llolleo style bridge-handle vessels, long-neck jars, and vessels shaped like squashes. Anthropomorphic jars are monochrome polished vessels with a thick strap handle connecting the neck to a molded human head with coffee bean eyes and prominent eyebrows and noses in a T-shape. Small, fine jars are decorated with wavy lines of hematite paint alternating with red areas. T-shaped ceramic pipes, ear plugs, and discoidal lip ornaments with wings (tembetás) were also made from ceramic.

M. Aconcagua style pottery—includes semispherical bowls and globular cups decorated with black painted lines on orange clay forming geometric decorations, zigzags, straight lines, triangles with pestañas, and trinacrio motifs.

Ceramics of Southern Chile

N. Pitrén style pottery—includes a wide variety of forms ranging from simple globular bottles to strap-handle jars in the form of animals, plants, or humans. Ketru metawe are asymmetrical or duck-shaped jars. Most vessels are monochrome brown or red. Some have modeled decorations, incision, or negative paint. Ceramic pipes are T-shaped and 3-5 cm long.

O. Late red-on-white pottery, including pre-Hispanic El Vergel and Colonial period Valdivia styles—includes large open vessels used as funerary urns and ketru metawe. Vessels may be monochrome red or decorated with red, and sometimes black, paint over white slip creating geometric designs. Other forms include jars, bottles, plates, bowls, cups, mugs with handles, and urns. Common designs include triangles filled with parallel lines, horizontal bands of chevrons, bands of nested zigzags, vertical bands of crosshatching and diamonds, and hourglasses.

P. Mapuche style pottery—includes jars with one handle (metawe), plates, bottles, pots (challa), bowls, large bowls, and mugs. Pottery is typically coarse and may be monochrome black, brown, or red-slipped. Asymmetrical jars are frequently painted with red or black geometric designs on white slip. Painted designs may be in two horizontal bands of opposing triangles. Some jars are duck-shaped. Later forms include dogs, horses, and pigs.

III. Metal

Cultures in the Arid North, the Semi-arid North, Central Chile, and Southern Chile developed metallurgy and manufactured artifacts in copper, silver, and gold. There is no record of metallurgy among cultures in the Far South or Rapa Nui. Most metal artifacts from Chile were used for ritual and personal adornment. Examples of archaeological metal objects covered in the Agreement include the following objects.

A. Personal ornaments—Several cultures made metal earrings and rings from copper (El Molle, San Pedro de Atacama, Llolleo, Aconcagua, Pitrén, El Vergel), gold (Arica, Tiwanaku, Inka, San Pedro de Atacama), or silver (Arica, Inka, San Pedro de Atacama). Notable types include Diaguita earrings that may have quadrangular or spiral shaped bodies and/or stone or metal appendices. San Pedro de Atacama rings may be made from smooth laminar sheets or wires. Some rings have appendices or heads. Other San Pedro de Atacama ornaments include metal plaques, small bells, gold and silver disks, imitation feathers, diadems, headbands, ear plugs, and bracelets. Diaguita and El Vergel bracelets are made from copper. Arica and Aconcagua cultures made copper hooks. Arica and San Pedro de Atacama cultures made ornamental clothing pins (tupus). Mapuche tupus were made from copper and silver.

B. Domestic and ceremonial tools—Functional metal axes are associated with Diaguita and San Pedro de Atacama cultures. Inka and Inka-influenced Diaguita tumis are ceremonial axes with a long handle and a semicircular or rectilinear blade. San Pedro, Diaguita, and Inka copper chisels are long copper tools with quadrangular cross-sections that are beveled on one end. San Pedro de Atacama mace heads are ellipsoidal. Inka copper or bronze mace heads are star-shaped. Metal tools from the Arid North may be attached to wooden handles. San Pedro de Atacama and Inka tweezers are made from copper or copper alloy. San Pedro de Atacama culture also made circular or ovoid punches. Knuckles (manoplas) are fist-sized semicircular tools with a pointed protrusion that may have been used to tighten bowstrings or as “brass knuckles.”

C. Vessels—Gold or silver San Pedro de Atacama style cups with embossed decorations include gold keros with Tiwanaku designs and portrait vessels. Inka and Diaguita cultures made copper plates.

D. Psychotropic paraphernalia—San Pedro de Atacama culture snuff tubes are wrapped with tape-like strips of gold and/or silver with ends made of gold. The distal end may have a Tiwanaku design such as a camelid head. The Diaguita culture used copper snuff spoons.

E. Figurines—Small Inka style figurines depict male, female, and animal figures in solid gold or silver. Diaguita figurines were made from copper.

IV. Human Remains

Preservation of human remains, including through mummification, is common in the Arid North due to the dry desert climate. In contrast, very few human remains preserve in the Far South or Rapa Nui, with the exception of manufactured items that incorporate human skeletal elements. Examples of archaeological human remains covered in the Agreement include the following objects.

A. Naturally mummified human remains—Early Archaic period mummified human remains from the Arid North are in extended positions on mats. Late Archaic period mummified human remains are in flexed positions. Early Pottery period mummified human bodies in flexed positions wear wool clothing and are placed on mats. Middle to late Pottery period mummy bundles contain flexed mummified human remains wrapped in layers of basketry and textiles.

B. Artificially mummified human remains—Chinchorro culture mummified human remains have wood and plant fibers replacing removed bones and organs. Red or black clay covers the faces and extended bodies. Their wigs are made of human hair.

C. Tools and jewelry—Rapa Nui culture needles, pendants, beads, punches and hooks are made from human skeletal remains.

D. Incised skulls—Rapa Nui culture incised skulls have incised designs in the frontal or parietal bone. Incised designs may be filled with yellow or red pigment.

V. Textiles

Most archaeological textiles are from the Arid North and Semi-arid North where dry conditions lead to excellent preservation. The earliest preserved textiles are from the Early Pottery period in the Arid North. Clothing and items for domestic use are made from camelid wool and cotton. Examples of archaeological textiles covered in the Agreement include the following objects.

A. Tunics, shirts, shawls, and girdles—Early Pottery period clothing from the Arid North includes shawls and shirts woven on looms from thick woolen fibers. The tunic (unku) is a sleeveless male garment that sometimes reaches to the knees. Early Pottery period tunics are often decorated with polychrome vertical lines in natural colors and/or embroidery on the edges of collars and sleeves. Alto Ramirez culture tunics and girdles made from polychrome and figurative tapestries stand out. Middle Pottery period Cabuza and Tiwanaku textiles include wool tunics, shirts, girdles, and other garments made predominantly of green, blue, and red fibers with complex geometric designs made with techniques of weft-faced weave, floating warp, and embroidered finishes. In the Late Pottery period, cotton fibers are introduced along with new decorative techniques such as tie-dye, tapestry, and feather applications. Atacama tradition plain or striped tunics are warp-faced with embroidered edges. Tapestry tunics and bags have red, blue, and white designs including networks of rhombuses, triangles, or squares accompanied by a zoomorphic figure with three fingers resembling a lizard.

B. Hats—Tiwanaku-influenced four-corner hats are monochrome or polychrome with geometric and figurative designs. Varied Middle to Late Pottery period turbans, caps, helmets, and hoods are made from wool, basketry, and leather. Some have attached metal, feather, or wood ornaments. For example, Atacama style crown-type hats were made of braided plant fibers covered by leather strips.

C. Mats and skirts—Mats are made from a series of reeds or branches joined by plant fibers to form a flexible plane in one direction. Chinchorro culture plant fiber skirts (faldellines) are made from fibers twisted like strings and tied to a main cord.

D. Bags—Ceremonial bags (chuspas) are trapezoidal, square, or rectangular and hang by a string. They are decorated on both sides with thin lines of dyed yarn with woven designs. Belt-bags are long rectangular girdles folded lengthwise to create a bag. They are decorated on one side. Bags and belt-bags have geometric, anthropomorphic, and zoometric designs made from yarn died dark red, orange, terracotta, purple, ochre, green, and blue. Small square or rectangular domestic-use bags are decorated with thin lines of natural colors. Atacama style bags are made from cut-pile weave similar to velvet and have checkerboard designs. Middle Pottery period Arica culture textiles use fewer decorative techniques and colors, but have increased diversity of anthropomorphic and zoomorphic designs.

E. Panels—Panels (inkuñas) are small rectangular textiles about 45 x 50 cm in size. Panels often have weft finishings creating dangling cords that serve as handles. Panels may hold burial bundles, household items, coca leaves, or agricultural products.

F. Khipus—Inka khipus are recording devices made of cotton and wool knotted cords hanging from a central cord.

VI. Wood

Archaeological wooden objects are rare. Few were produced in the Arid North due to a scarcity of raw material. Wood was available in Central Chile, Southern Chile, and the Far South, but environmental conditions in those areas do not favor wood preservation. Examples of archaeological wooden objects covered in the Agreement include the following objects.

A. Snuff tablets—Snuff tablets are shallow rectangular trays that may be decorated with geometric or zoo-anthropomorphic figures associated with cultures of Northern Chile, San Pedro de Atacama Complex, the Diaguita Culture, and other cultures influenced by the Inka.

B. Keros—Keros are vase-shaped beakers with elaborate carved geometric or zoomorphic designs associated with the Arica Culture, San Pedro de Atacama Complex, Diaguita Culture, and others influenced by Inka culture.

C. Domestic tools—Combs, boxes, spindle shafts, and spindle whorls are made from wood. Mapuche Culture rafts, plates, spoons, spindle whorls, and other items are made from oak, bay laurel, ralí, alerce, and coihue.

D. Navigation items—Oars from the Arid North and Semi-arid North are made from wood, and rafts are made from wood and inflated sea lion skins. Dugout canoes (wampos) from Central Chile and Southern Chile are carved from a single tree trunk.

VIII. Bone, Ivory, Shell, and Other Organic Material

Preservation of bone, shell, and other organic material is best in the Arid and Semi-arid North. Very little bone or shell has been recovered in the Far South or Rapa Nui. Various artefacts were made for domestic, recreational, decorative, and ritual use. Examples of archaeological objects covered in the Agreement include the following objects.

A. Hooks and harpoons—Middle and Late Archaic period hooks from the Arid North are made from mollusk shells and cactus thorns. Harpoons are made from bone. Rapa Nui culture spear tips and fishhooks are made from bone and shell.

B. Bone and shell tools—Bone tools from the Arid North include awls, punches, pressure flakers, darts, shovels, hoes, and two-headed anthropomorphic bone spindle whorls. Most tools are made from camelid bones. Hoes are made from whale bones. Cutting tools are made from sharpened marine mollusks. Bone awls, spears, and tubes date to the Paleoindian period in Southern Chile. Austral canoe nomad awls, beads, chisels, pressure flakers, smoothers, and harpoon and spear points with serrated edges are made from terrestrial mammals, marine mammals, and birds. Some harpoons have geometric engravings and occasional animal motifs. Rapa Nui culture needles are made from bird bones.

C. Body ornaments—Earrings from the Arid North are made from shell. Necklaces and other jewelry are made from bone beads. Austral canoe nomad pendants are made from sea lion canine teeth and engraved albatross bone. Rapa Nui culture ornaments include bone pendants, bone necklaces, tooth beads, small black or white shell beads, medium brown shell beads, and bone ear plugs. Inka shell ornaments are made from Spondylus princeps, or mullu.

D. Spatulas and snuff tubes—Snuff tubes are small bones that have been hollowed out, polished, and decorated on the exterior. Spatulas have rounded tips for inhaling snuff and are decorated with carved zoomorphic designs.

E. Combs—Middle and Late Pottery period combs are made from cactus thorns joined by interlaced fibers.

F. Gourd containers—Gourd containers have pyro-engraved geometric, anthropomorphic, and zoomorphic designs.

G. Basketry and rope—Early Pottery period basketry includes miniatures and large baskets or plates. Middle and Late Pottery period baskets are medium size. Ropes are made from vegetable fiber.

H. Musical instruments—Panpipes are made of reeds lashed together with cords or carved from a single piece of wood. Rattles are made from gourds and wood with seeds or pebbles inside. Chajchas or cahschas are camelid hoofs held together with a fabric strap.

I. Moai eyes—The eyes of moai are made from coral and may have either red scoria or black obsidian pupils.

Additional Resources

National Cultural Heritage Service, Chile, digital collections: https://www.patrimoniocultural.gob.cl/portal/Contenido/Colecciones-digitales/.

Heritage Assets Documentation Center, Chile, Regional Heritage Thesaurus: http://www.tesauroregional.cl/linea-de-tiempo.

Inapplicability of Notice and Delayed Effective Date

This amendment involves a foreign affairs function of the United States and is, therefore, being made without notice or public procedure (5 U.S.C. 553(a)(1)). For the same reason, a delayed effective date is not required under 5 U.S.C. 553(d)(3).

Regulatory Flexibility Act

Because no notice of proposed rulemaking is required, the provisions of the Regulatory Flexibility Act (5 U.S.C. 601 et seq.) do not apply.

Executive Orders 12866 and 13771

CBP has determined that this document is not a regulation or rule subject to the provisions of Executive Order 12866 or Executive Order 13771 because it pertains to a foreign affairs function of the United States, as described above, and therefore is specifically exempted by section 3(d)(2) of Executive Order 12866 and section 4(a) of Executive Order 13771.

Signing Authority

This regulation is being issued in accordance with 19 CFR 0.1(a)(1) pertaining to the Secretary of the Treasury's authority (or that of his/her delegate) to approve regulations related to customs revenue functions.

List of Subjects in 19 CFR Part 12

Cultural property, Customs duties and inspection, Imports, Prohibited merchandise, Reporting and recordkeeping requirements.

Amendment to CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

2. In § 12.104g, the table in paragraph (a) is amended by adding an entry for Chile in alphabetical order to read as follows:

§ 12.104g Specific items or categories designated by agreements or emergency actions.

(a) * * *

State party | Cultural property | Decision No.
* * * * * * *
Chile | Archaeological material representing Chile's cultural heritage from the Paleoindian period (c. 31,000 B.C.) to the Huri Moai phase in Chile (A.D. 1680-1868). | CBP Dec. 20-16.
* * * * * * *

* * * * *

Dated: October 7, 2020.
Mark A. Morgan,
Chief Operating Officer and Senior Official Performing the Duties of the Commissioner, U.S. Customs and Border Protection.
Approved:
Timothy E. Skud,
Deputy Assistant Secretary of the Treasury.

[FR Doc. 2020-22573 Filed 10-7-20; 4:15 pm]

BILLING CODE 9111-14-P